COMMITTEE FOR PURCHASE FROM PEOPLE WHO ARE BLIND OR SEVERELY DISABLED

Procurement List; Proposed Deletions

AGENCY: Committee for Purchase From People Who Are Blind or Severely Disabled.

ACTION: Deletions from the Procurement List.

SUMMARY: The Committee is proposing to delete products and services from the Procurement List that were furnished by nonprofit agencies employing persons who are blind or have other severe disabilities.

DATES: Comments must be received on or before: September 01, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following products and services are proposed for deletion from the Procurement List:

Products

NSN—Product Name: 7045-01-365-2069—Diskettes, Formatted, 1.44 MB, 3.5″, BX/10

Mandatory Source of Supply: North Central Sight Services, Inc., Williamsport, PA

Contracting Activity: DLA TROOP SUPPORT, PHILADELPHIA, PA

NSN—Product Name: MR 331—Pitter, Cherry and Olive

Mandatory Source of Supply: Cincinnati Association for the Blind, Cincinnati, OH

Contracting Activity: Military Resale-Defense Commissary Agency

NSN—Product Name: 9905-00-565-6267—Sign-Kit, Vehicle Weight

Mandatory Source of Supply: CW Resources, Inc., New Britain, CT

Contracting Activity: GSA/FSS GREATER SOUTHWEST ACQUISITI, FORT WORTH, TX

Services

Service Type: Custodial and Related Services, Custodial service

Mandatory for: GSA PBS Region 4, Federal Building Courthouse, 50 Main Street, Bryson City, NC

Mandatory Source of Supply: Portco, Inc., Portsmouth, VA

Contracting Activity: PUBLIC BUILDINGS SERVICE, ACQUISITION DIVISION/SERVICES BRANCH

Service Type: Mailroom Support Services

Mandatory for: Bureau of Land Management, Arizona State Office: 222 Central Avenue, Phoenix, AZ

Mandatory Source of Supply: The Centers for Habilitation/TCH, Tempe, AZ

Contracting Activity: OFFICE OF POLICY, MANAGEMENT, AND BUDGET, NBC ACQUISITION SERVICES DIVISION

Service Type: Mailroom Support Services

Mandatory for: Bureau of Land Management, Arizona State Office: 522 Central Avenue, Phoenix, AZ

Mandatory Source of Supply: The Centers for Habilitation/TCH, Tempe, AZ

Contracting Activity: OFFICE OF POLICY, MANAGEMENT, AND BUDGET, NBC ACQUISITION SERVICES DIVISION

Service Type: Grounds Maintenance

Mandatory for: U.S. Geological Survey: Florida Caribbean Science Center, Gainesville, FL

Mandatory Source of Supply: The Arc of Alachua County, Inc., Gainesville, FL

Contracting Activity: OFFICE OF POLICY, MANAGEMENT, AND BUDGET, NBC ACQUISITION SERVICES DIVISION

Service Type: Furniture Moving Services

Mandatory for: U.S. Forest Service, 1720 Peachtree Road NW, Atlanta, GA

Mandatory Source of Supply: Bobby Dodd Institute, Inc., Atlanta, GA

Contracting Activity: FOREST SERVICE, DEPT OF AGRIC/FOREST SERVICE

Service Type: Janitorial/Custodial

Mandatory for: Department of Veterans Affairs: Franklin D. Roosevelt Hospital, Montrose, NY

Contracting Activity: VETERANS AFFAIRS, DEPARTMENT OF, NAC

Service Type: Toner Cartridge Remanufacturing

Mandatory for: Department of Energy, Washington, DC

Mandatory Source of Supply: Rappahannock Goodwill Industries, Inc., Fredericksburg, VA

Contracting Activity: ENERGY, DEPARTMENT OF, HEADQUARTERS PROCUREMENT SERVICES

Service Type: Janitorial/Related Exterior Maintenance

Mandatory for: Veterans Affairs Outpatient Clinic, 351 East Temple Street, Los Angeles, CA

Mandatory Source of Supply: Asian Rehabilitation Services, Inc., Los Angeles, CA

Contracting Activity: VETERANS AFFAIRS, DEPARTMENT OF, NAC

Service Type: Janitorial/Custodial

Mandatory for: Department of Veterans Affairs: Lompoc Clinic, Lompoc, CA

Mandatory Source of Supply: Life Options, Vocational and Resource Center, Lompoc, CA

Contracting Activity: VETERANS AFFAIRS, DEPARTMENT OF, NAC

Service Type: Mailing Services

Mandatory for: GSA, National Archive and Record Service, Washington, DC

Mandatory Source of Supply: The ARC of the District of Columbia, Inc., Washington, DC

Contracting Activity: GENERAL SERVICES ADMINISTRATION, FPDS AGENCY COORDINATOR

Service Type: Janitorial/Custodial

Mandatory for: FAA Flight Standards District Office: 9191 Plank Road, Baton Rouge, LA

Mandatory Source of Supply: Louisiana Industries for the Disabled, Inc., Baton Rouge, LA

Contracting Activity: TRANSPORTATION, DEPARTMENT OF, DEPT OF TRANS

Service Type: Laundry Service

Mandatory for: Veterans Affairs Medical Center: 7305 N Military Trail, West Palm Beach, FL

Mandatory Source of Supply: Gulfstream Goodwill Industries, Inc., West Palm Beach, FL

Contracting Activity: VETERANS AFFAIRS, DEPARTMENT OF, 548P-WEST PALM PROSTHETICS

Service Type: Document Destruction

Mandatory for: National Archives & Records Administration, Perris, CA

Mandatory Source of Supply: Goodwill Industries of Southern California, Panarama City, CA

Contracting Activity: NATIONAL ARCHIVES AND RECORDS ADMINISTRATION, NARA FACILITIES

Michael R. Jurkowski,
Deputy Director, Business & PL Operations.

[FR Doc. 2019-16530 Filed 8-1-19; 8:45 am]

BILLING CODE 6353-01-P